DEPARTMENT OF COMMERCE

International Trade Administration

[C-475-819]

Certain Pasta from Italy: Notice of Rescission of Countervailing Duty New Shipper Review

AGENCY: Import Administration, International Trade Administration, Department of Commerce.

ACTION: Notice of Rescission of Countervailing Duty New Shipper Review.

SUMMARY: On March 5, 2003, the Department of Commerce published in the Federal Register (68 FR 10446) a notice announcing the initiation of a new shipper review of the countervailing duty order on certain pasta from Italy, covering the time period January 1, 2002 through December 31, 2002. On March 24, 2003, the Department published a corrected notice of initiation in the Federal Register (68 FR 14198). We are now rescinding this new shipper review.

EFFECTIVE DATE: December 5, 2003.

FOR FURTHER INFORMATION CONTACT: Daniel J. Alexy or John Brinkmann, AD/CVD Enforcement, Group I, Office 1, Import Administration, U.S. Department of Commerce, 14th Street and Constitution Avenue NW., Washington, DC 20230; telephone (202) 482-1540 or 482-4126, respectively.

SUPPLEMENTARY INFORMATION:

Background

On December 17, 2002, the Department of Commerce (the “Department”) received a request from Pastificio Carmine Russo S.p.A. (“Pastificio Russo”), made pursuant to section 751(a)(2)(B) of the Tariff Act of 1930, as amended (the “Act”) and 19 CFR §351.214(b), to conduct a new shipper review of the countervailing duty order on certain pasta from Italy, which was issued on July 24, 1996 (61 FR 38544). On February 24, 2003, the Department received submissions from Pastificio Russo containing additional information.

In accordance with section 751(a)(2)(B) of the Act and 19 CFR §351.214, on February 27, 2003, the Department initiated a countervailing duty new shipper review for certain pasta from Italy, covering calendar year 2002. See Certain Pasta from Italy: Notice of Initiation of Countervailing Duty New Shipper Review, 68 FR 10446 (March 5, 2003). Corrections to the initiation notice were published in the Federal Register on March 24, 2003 (See 68 FR 14198). On August 29, 2003, the Department extended the time limit for the publication of the preliminary results in the new shipper review. See Certain Pasta From Italy: Notice of Extension of Time Limit for Countervailing Duty New Shipper Review, 68 FR 51965 (August 29, 2003).

On August 22, 2003, the Department, after receiving a timely request from Pastificio Russo pursuant to 19 CFR §351.213(b)(2), initiated an administrative review covering calendar year 2002 for that company. See Notice of Initiation of Antidumping and Countervailing Duty Administrative Reviews and Requests for Revocation in Part, 68 FR 50750 (August 22, 2003). Accordingly, parallel reviews covering the same period of review were initiated under 19 CFR §351.214 (new shipper review) and 19 CFR §351.213 (administrative review).

Rescission of New Shipper Review

Section 351.214(j)(1) of the Department's regulations authorizes the Department to rescind a new shipper review where: (1) the producer or exporter's merchandise is also being covered by an administrative review under section 351.213, and; (2) the Department consults with the exporter or producer.

As noted, concurrent reviews of Pasificio Russo were initiated by the Department. The Department also consulted with Pastificio Russo concerning the rescission of the new shipper review. The Department typically does not conduct parallel reviews covering the same period of review, and in this case, the Department preferred proceeding under the administrative review. See Memorandum to File from Senior Office Director Susan Kuhbach, dated November 5, 2003, “Ex Parte Conversation with counsel for Pastificio Carmine Russo, S.p.A.,” which is on file in the Central Records Unit in room B-099 of the main Department building. Accordingly, we are rescinding the new shipper review and proceeding with the administrative review.

Notification

The Department will notify U.S. Customs and Border Protection (Customs) that bonding is no longer permitted to fulfill security requirements for shipments from Pastificio Russo entered, or withdrawn from warehouse, for consumption in the United States on or after the publication of this rescission notice in the Federal Register, and that a cash deposit of 3.85 percent ad valorem should be collected for any entries exported by Pastificio Russo.

We are publishing this notice of rescission in accordance with 19 CFR §351.214(f)(3).

Dated: December 1, 2003.
Jeffrey May,
Deputy Assistant Secretary for Import Administration.

[FR Doc. 03-30262 Filed 12-4-03; 8:45 am]

BILLING CODE 3510-DS-S